FEDERAL EMERGENCY MANAGEMENT AGENCY

44 CFR Part 65

[Docket No. FEMA-B-7409]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table below and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based on knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act. This rule is categorically excluded from the requirements of 44 CFR part 10, Environmental Consideration. No environmental impact assessment has been prepared.

Regulatory Flexibility Act. The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State, county and location | Dates and name of newspaper where notice was published | Chief executive officer of community | Effective date of modification | Community No.
Arizona:
Cochise, City of Sierra Vista | Nov. 10, 2000, Nov. 17, 2000, Sierra Vista Herald | The Honorable Tom Hessler, Mayor, City of Sierra Vista, 1011 North Coronado Drive, Sierra Vista, Arizona 85635 | Feb. 15, 2001 | 040017
Cochise, Unincorporated Areas | Nov. 8, 2000, Nov. 15, 2000, Arizona Range News | The Honorable Mike Palmer, Chairman, Cochise County Board of Supervisors, 1415 West Melody Lane, Bisbee, Arizona 85603 | Feb. 15, 2001 | 040012
Maricopa, Town of Buckeye | Aug. 10, 2000, Aug. 17, 2000, Arizona Republic | The Honorable Dusty Hull, Mayor, Town of Buckeye, 100 North Apache Road, Suite A, Buckeye, Arizona 85326 | July 19, 2000 | 040039
Maricopa, Unincorporated Areas | Aug. 10, 2000, Aug. 17, 2000, Arizona Republic | The Honorable Andrew Kunasek, Chairperson, Maricopa County Board of Supervisors, 301 West Jefferson, 10th Floor Phoenix, Arizona 85003 | July 19, 2000 | 040037
Mohave, Unincorporated Areas | Nov. 10, 2000, Nov. 17, 2000, Kingman Daily Mine | The Honorable Buster Johnson, Chairman, Mohave County Board of Supervisors, 809 East Beale Street, Kingman, Arizona 86401-5924 | Oct. 23, 2000 | 040058
Pima, City of Tucson | Oct. 12, 2000, Oct. 19, 2000, Tucson Citizen | The Honorable Robert Walkup, Mayor, city of Tucson, P.O. Box 27210, Tucson, Arizona 85726 | Sept. 25, 2000 | 040076
Pima, City of Tucson | Dec. 1, 2000, Dec. 8, 2000, Arizona Daily Star | The Honorable Robert E. Walkup, Mayor, city of Tucson, P.O. Box 27210, Tucson, Arizona 85726 | Nov. 8, 2000 | 040076
Pima, City of Tucson | Dec. 22, 2000, Dec. 29, 2001, Arizona Daily Star | The Honorable Robert E. Walkup, Mayor, city of Tucson, P.O. Box 27210, Tucson, Arizona 85726 | Mar. 29, 2001 | 040076
Pima, Unincorporated Areas | Oct. 12, 2000, Oct. 19, 2000, Arizona Daily Star | The Honorable Sharon Bronson, Chairperson, Pima County Board of Supervisors, 130 West Congress, 11th Floor, Tucson, Arizona 85701 | Sept. 25, 2000 | 040073
California:
Lake, Unincorporated Areas | Apr. 18, 2000, Apr. 25, 2000, Lake County Record—Bee | The Honorable D.W. Merriman, Chairman, Lake County Board of Supervisors, 255 North Forbes Street, Lakeport, California 95453 | Mar. 13, 2000 | 060090
Los Angeles, Unincorporated Areas | Mar. 16, 2000, Mar. 23, 2000, Metropolitan News Enterprise | The Honorable Don Knabe, Chairman, Los Angeles County Board of Supervisors, 500 West Temple Street, Suite 821, Los Angeles, California 90012 | Feb. 25, 2000 | 065043
Mendocino, City of Ukiah | Dec. 1, 2000, Dec. 8, 2000, Ukiah Daily Journal | The Honorable Jim Mastin, Mayor, City of Ukiah, 300 Seminary Avenue, Ukiah, California 95482 | Nov. 14, 2000 | 060186
Santa Clara, City of Milpitas | Dec. 14, 2000, Dec. 21, 2000, Milpitas Post | The Honorable Henry Manayan, Mayor, City of Milpitas, 455 East Calaveras Boulevard, Milpitas, California 95035 | Nov. 27, 2000 | 060344
Tehama, City of Red Bluff | Nov. 22, 2000, Nov. 29, 2000, Red Bluff Daily News | The Honorable Larry Stevens, Mayor, City of Red Bluff, 555 Washington Street, Red Bluff, California 96080 | Feb. 27, 2001 | 065053
Tehama, Unincorporated Areas | Nov. 22, 2000, Nov. 29, 2000, Red Bluff Daily News | The Honorable Rick Robinson, Chief Administrator, Tehama County Board of Supervisors, P.O. Box 927, Red Bluff, California 96080 | Feb. 27, 2001 | 065064
Colorado:
Arapahoe, Unincorporated Areas | Nov. 29, 2000, Dec. 6, 2000, Denver Post | The Honorable John Brackney, Chairman, Arapahoe County Board of Commissioners, 5334 South Prince Street, Littleton, Colorado 80166 | Nov. 3, 2000 | 080011
Mesa, City of Grand Junction | Nov. 3, 2000, Nov. 10, 2000, The Daily Sentinel | The Honorable Gene Kinsey, Mayor, City of Grand Junction, 250 North Fifth Street, Grand Junction, Colorado 81501 | Feb. 8, 2001 | 080117
Weld, Unincorporated Areas | Oct. 19, 2000, Oct. 26, 2000, Windsor Beacon | The Honorable Barbara J. Kirkmeyer, Chairperson, Weld County Board of Commissioners, P.O. Box 758, Greeley, Colorado 80632-0758 | Jan. 24, 2001 | 080266
Weld, Town of Windsor | Oct. 19, 2000, Oct. 26, 2000, Windsor Beacon | The Honorable Wayne Miller, Mayor, Town of Windsor, 301 Walnut Street, Windsor, Colorado 80550 | Jan. 24, 2001 | 080264
Idaho:
Ada, Unincorporated Areas | Nov. 3, 2000, Nov. 10, 2000, Idaho Statesman | The Honorable Roger Simmons, Chairperson, Ada County Board of Commissioners, 650 West Main Street, Boise, Idaho 83702 | Feb. 8, 2001 | 160001
Louisiana:
St. Landry Parish, Unincorporated Areas | Apr. 21, 2000, Apr. 28, 2000, The Daily World | The Honorable Howard Austin, St. Landry Parish President, P.O. Box 551, Opelousas, Louisiana 70571 | Mar. 9, 2000 | 220165
Missouri:
St. Charles, City of St. Peters | Aug. 11, 2000, Aug. 18, 2000, St. Peters Journal | The Honorable Thomas Brown, Mayor, City of St. Peters, One St. Peters Centre Boulevard, St. Peters, Missouri 63376 | July 20, 2000 | 290319
Oklahoma:
Rogers, City of Owasso | Sept. 28, 2000, Oct. 5, 2000, Owasso Reporter | The Honorable Mark Wilken, Mayor, City of Owasso, P.O. Box 180, Owasso, Oklahoma 74055-0180 | Sept. 8, 2000 | 400210
Tulsa, City of Bixby | May 29, 2000, June 5, 2000, Tulsa World | The Honorable Joe Williams, Mayor, City of Bixby, 116 West Needles Avenue, Bixby, Oklahoma 74008 | Sept. 4, 2000 | 400207
Tulsa, City of Broken Arrow | Oct. 24, 2000, Oct. 31, 2000, Broken Arrow Daily Ledger | The Honorable James Reynolds, Mayor, City of Broken Arrow, P.O. Box 610, Broken Arrow, Oklahoma 74013 | Oct. 5, 2000 | 400236
Tulsa, City of Jenks | May 29, 2000, June 5, 2000, Tulsa World | The Honorable Mike Tinker, Mayor, City of Jenks, P.O. Box 2007, Jenks, Oklahoma 74037-2007 | Sept. 4, 2000 | 400209
Tulsa, Unincorporated Areas | May 29, 2000, June 5, 2000, Tulsa World | The Honorable John Selph, Chairman, Tulsa County Board of Commissioners, 500 South Denver Avenue, Tulsa, Oklahoma 74103 | Sept. 4, 2000 | 400462
Oregon:
Clackamas, Unincorporated Areas | Nov. 24, 2000, Dec. 1, 2000, The Oregonian | The Honorable Bill Kennemer, Chairman, Clackamas County Board of Commissioners, 906 Main Street, Oregon City, Oregon 97045 | Mar. 1, 2001 | 415588
Lincoln, City of Newport | Aug. 25, 2000, Sept. 1, 2000, Newport News-Times | The Honorable Mark Jones, Mayor, City of Newport, 1801 North Coast Highway, Newport, Oregon 97365 | Aug. 11, 2000 | 410131
Texas:
Bexar, City of San Antonio | Dec. 7, 2000, Dec. 14, 2000, San Antonio Express-News | The Honorable Howard W. Peak, Mayor, City of San Antonio, P.O. Box 839966, San Antonio, Texas 78283-3966 | Nov. 15, 2000 | 480045
Collin, City of Plano | Nov. 17, 2000, Nov. 24, 2000, Plano Star Courier | The Honorable Jeran Akers, Mayor, City of Plano, P.O. Box 860358, Plano, Texas 75086-0358 | Nov. 2, 2000 | 480140
Dallas, City of Carrollton | Sept. 29, 2000, Oct. 6, 2000, Metrocrest News | The Honorable Mark Stokes, Mayor, City of Carrollton, P.O. Box 110535, Carrollton, Texas 75011-0535 | Jan. 4, 2001 | 480167
Fort Bend, City of Katy | Mar. 15, 2000, Mar. 22, 2000, Katy Times | The Honorable Hank Schmidt, Jr., Mayor, City of Katy, 910 Avenue C, Katy, Texas 77493 | Jan. 31, 2000 | 480301
Tarrant, City of Forest Hill | Oct. 23, 2000, Oct. 27, 2000, Commercial Recorder | The Honorable Malinda Miller, Mayor, City of Forest Hill, 6800 Forest Hill Drive, Forest Hill, Texas 76140 | Oct. 3, 2000 | 480595
Tarrant, City of North Richland Hills | May 25, 2000, June 1, 2000, Star Telegram | The Honorable Charles Scoma, Mayor, City of North Richland Hills, P.O. Box 820609, North Richland Hills, Texas 76182-0609 | May 3, 2000 | 480607
Tarrant, City of North Richland Hills | June 20, 2000, June 27, 2000, Star Telegram | The Honorable Charles Scoma, Mayor, City of North Richland Hills, P.O. Box 820609, North Richland Hills, Texas 76182-0609 | May 24, 2000 | 480607

(Catalog of Federal Domestic Assistance No. 83.100, “Flood Insurance.”)
Dated: February 26, 2001.
Margaret E. Lawless,
Acting Executive Associate Director for Mitigation.

[FR Doc. 01-5185 Filed 3-2-01; 8:45 am]

BILLING CODE 6718-04-P